DEPARTMENT OF THE INTERIOR

Bureau of Land Management

[MT-100-1430-ES; MTM 95880]

Notice of Realty Action; Recreation and Public Purposes Act Classification; Granite County, MT

AGENCY: Bureau of Land Management, Interior.

ACTION: Notice of Realty Action.

SUMMARY: The Bureau of Land Management (BLM) has examined and found suitable for classification for lease under the provisions of the Recreation and Public Purposes (R&PP) Act, as amended, approximately 0.9 acre of public land in Granite County, Montana. The Valley Fire District, Philipsburg, Montana, proposes to use the land as a fire station.

DATES: Interested parties may submit comments regarding the proposed lease or classification of the lands until October 1, 2007.

ADDRESSES: Send written comments to the Missoula Field Manager, BLM, Missoula Field Office, 3255 Ft. Missoula Rd., Missoula, Montana 59804-7293.

FOR FURTHER INFORMATION CONTACT: Jim Ledger, Realty Specialist, Missoula Field Office, (406) 329-3914 or via e-mail at jledger@blm.gov.

SUPPLEMENTARY INFORMATION: In accordance with section 7 of the Taylor Grazing Act, 43 U.S.C. 315f, the following described public land in Granite County, Montana has been examined and found suitable for classification for lease under the provisions of the Recreation and Public Purposes (R&PP) Act as amended (43 U.S.C. 869 et seq.) and is hereby classified accordingly.

The Valley Fire District proposes to use the land for the construction and operation of a fire station. The facility will serve citizens in the southern portion of the fire district near Maxville, Montana, where increased growth in the wildland urban interface has occurred.

Principal Meridian, Montana

T. 8 N., R. 13 W.,

Sec. 16, a metes and bounds parcel located in Lot 1, beginning at the northeast section corner of Section 16, thence West, 128.7 feet, thence South 89° 46′ West, 517.0 feet to the centerline of the Boulder Creek County Road, the true point of beginning, thence South 89° 46′ West, 245.0 feet, thence South, 150.0 feet, thence North 89° 46′ East, 310.0 feet to the centerline of the Boulder Creek County Road, thence North 37° 50′ West, 64.2 feet along the centerline of the Boulder Creek County Road, thence North 22° 15′ West, 44.7 feet along the centerline of the Boulder Creek County Road, thence North 9° 53′ West, 58.3 feet along the centerline of the Boulder Creek County Road to the true point of beginning.

The area described contains 0.9 acre, more or less, in Granite County.

The land is not required for any Federal purpose. The proposed action conforms to the Garnet Resource Management Plan and would be in the public interest. The lease, when issued, will be subject to the following terms and conditions:

1. Provisions of the Recreation and Public Purposes Act and to all applicable regulations of the Secretary of the Interior.

2. All valid, existing rights of record, including those documented on the official public land records at the time of lease issuance.

3. All minerals are reserved to the United States, together with the right to mine and remove the same, under applicable laws and regulations established by the Secretary of the Interior, including all necessary access and exit rights.

4. The lessee, its successors or assigns, by accepting a lease, agrees to indemnify, defend, and hold the United States, its officers, agents, representatives, and employees (hereinafter “United States”) harmless from any costs, damages, claims, causes of action, penalties, fines, liabilities, and judgments of any kind or nature arising out of, or in connection with the lessee's use, occupancy, or operations on the leased real property. This indemnification and hold harmless agreement includes, but is not limited to, acts or omissions of the lessee and its employees, agents, contractors, lessees, or any third-party, arising out of or in connection with the lessee's use, occupancy or operations on the leased real property which cause or give rise to, in whole or in part: (1) Violations of Federal, state, and local laws and regulations that are now, or may in future become, applicable to the real property and/or applicable to the use, occupancy, and/or operations thereon; (2) judgments, claims, or demands of any kind assessed against the United States; (3) costs, expenses or damages of any kind incurred by the United States; (4) releases or threatened releases of solid or hazardous waste(s) and/or hazardous substance(s), pollutant(s) or contaminant(s), and/or petroleum product or derivative of a petroleum product, as defined by Federal and state environmental laws; off, on, into or under land, property and other interests of the United States; (5) other activities by which solid or hazardous substance(s) or waste(s), pollutant(s) or contaminant(s), or petroleum product or derivative of a petroleum product as defined by Federal and state environmental laws are generated, stored, used or otherwise disposed of on the leased real property, and any cleanup response, remedial action, or other actions related in any manner to the said solid or hazardous substance(s) or waste(s), pollutant(s) or contaminant(s), or petroleum product or derivative of a petroleum product; (6) natural resource damages as defined by Federal and state laws. Lessee shall stipulate that it will be solely responsible for compliance with all applicable Federal, state and local environmental laws and regulatory provisions, throughout the life of the facility, including and closure and/or post-closure requirements that may be imposed with respect to any physical plant and/or facility upon the real property under and Federal, state or local environmental laws or regulatory provisions.

Detailed information concerning this action, including but not limited to documentation relating to compliance with applicable environmental and cultural resource laws, is available for review at the BLM, Missoula Field Office, 3255 Ft. Missoula Rd., Missoula, Montana 59804-7293.

Upon publication of this notice in the Federal Register, the above described public lands will be segregated from all other forms of appropriation under the public land laws, including the general mining laws, except for lease under the R&PP Act, leasing under the mineral leasing laws, and disposals under the mineral material disposal laws.

Classification Comments: Interested parties may submit comments involving the suitability of the land for lease as a fire station. Comments on the classification are restricted to whether the land is physically suited for the proposal, whether the use will maximize the future uses of the land, whether the use is consistent with local planning and zoning, or if the use is consistent with state and Federal programs.

Lease Comments: Interested parties may submit comments regarding the lease and the specific use proposed in the application and plan of development, whether the BLM followed proper administrative procedures in reaching the decision, or any other factor not directly related to the suitability of the land for R&PP use.

To be considered, comments must be received at the BLM Missoula Field Office on or before the date stated above in this notice for that purpose. Before including your address, phone number, e-mail address, or other personal identifying information in your comment, you should be aware that your entire comment—including your personal identifying information—may be made publicly available at any time. While you can ask us in your comment to withhold your personal identifying information from public review, we cannot guarantee that we will be able to do so. Only written comments submitted by postal service or overnight mail to the Field Manager, BLM Missoula Field Office will be considered properly filed. E-mail, facsimile or telephone comments will not be considered properly filed.

Any adverse comments will be reviewed by the Missoula Field Manager, who may sustain, vacate, or modify this realty action. In the absence of any adverse comments, the classification of the land described in this notice will become effective on October 16, 2007. The land will not be offered for lease until after the classification becomes effective.

Authority: 43 CFR 2741.5.

Nancy T. Anderson,
Field Manager.

[FR Doc. E7-16206 Filed 8-16-07; 8:45 am]

BILLING CODE 4310-$$-P